DEPARTMENT OF THE INTERIOR

Fish and Wildlife Service

Notice of Availability of the Draft Comprehensive Conservation Plan and Environmental Assessment for Pocosin Lakes National Wildlife Refuge in Tyrrell, Washington, and Hyde Counties, NC

AGENCY: Fish and Wildlife Service, Interior.

ACTION: Notice of availability.

SUMMARY: We, the Fish and Wildlife Service, announce that a Draft Comprehensive Conservation Plan and Environmental Assessment (Draft CCP/EA) for Pocosin Lakes National Wildlife Refuge is available for distribution. The National Wildlife Refuge System Administration Act of 1966, as amended by the National Wildlife Refuge System Improvement Act of 1997, requires that we develop a comprehensive conservation plan for each national wildlife refuge. This Draft CCP, when final, will describe how we intend to manage Pocosin Lakes National Wildlife Refuge over the next 15 years.

DATES: Written comments must be received at the postal address listed below no later than August 13, 2007.

ADDRESSES: To provide written comments or to obtain a copy of the Draft CCP/EA, please write to: Howard Phillips, Refuge Manager, Pocosin Lakes National Wildlife Refuge, P.O. Box 329, Columbia, North Carolina 27925; or telephone: 252/796-3004, Extension 226. The Draft CCP/EA may also be accessed and downloaded from the Service's Internet Site: http://southeast.fws.gov/planning/.

SUPPLEMENTARY INFORMATION: Public Availability of Comments: Before including your address, phone number, e-mail address, or other personal identifying information in your comment, you should be aware that your entire comment, including your personal identifying information, may be made publicly available at any time. While you can ask us in your comment to withhold your personal identifying information from public review, we cannot guarantee that we will be able to do so.

Background: Congress established the 12,000-acre Pungo National Wildlife Refuge in 1963, by the authority of the Migratory Bird Conservation Act of 1929 and the Fish and Wildlife Act of 1956. Pocosin Lakes National Wildlife Refuge was established in 1990. At that time, Pungo Refuge was made a unit of Pocosin Lakes Refuge. The refuge, in northeast North Carolina, consists of 110,106 acres in fee simple ownership, and is made up of the following habitats: 63,896 acres of pocosin wetlands; 4,280 acres of bay forest; 3,124 acres of peatland Atlantic white cedar; 13,649 acres of mixed pine flatwoods; 14,045 acres of hardwood swamp forest; 970 acres of cypress-gum swamp; 987 acres of marsh; 276 acres of xeric sandhill scrub; 1,250 acres of cropland; 443 acres of moist-soil areas; 446 acres of natural shoreline; and 6,740 acres of open water. These habitats support a variety of wildlife species, including red wolves, red-cockaded woodpeckers, waterfowl, shorebirds, wading birds, marsh birds, and neotropical migratory songbirds.

The refuge hosts approximately 80,000 visitors annually who participate in hunting, fishing, wildlife observation, wildlife photography, and environmental education and interpretation. Because of the estimated number of people stopping at the Tyrrell County Visitor Center (460,000), which is located immediately adjacent to the refuge's visitor center and Scuppernong River Interpretive Boardwalk, actual refuge visitation is likely much higher; perhaps exceeding 200,000.

Significant issues addressed in the Draft CCP/EA include: managing impoundments to create optimum habitat for migrating waterfowl, shorebirds, wading birds, and aquatic organisms; managing and providing optimum habitat for threatened and endangered species; managing marshes and pine forests with prescribed fire; monitoring, managing, and eradicating invasive pest plants and animals; restoring natural hydrology on the refuge; surveying for waterfowl, shorebirds, wading birds, and neotropical migratory songbirds; providing adequate law enforcement; providing outreach and interpretive opportunities to the public; providing quality hunting and fishing opportunities; and managing access for public use activities.

Also addressed in the Draft CCP/EA are compatibility determinations for the following uses: (1) Hunting; (2) Fishing; (3) Wildlife Observation and Photography; (4) Environmental Education and Interpretation; (5) Refuge Access for Public Uses; (6) Trapping of Selected Furbearers for Management; (7) Collecting Reptiles and Amphibians; (8) Refuge Resource Research Studies; (9) Cooperative Farming; (10) Commercial Photography; (11) Commercial Tours and Guiding; (12) Wood and Reed Gathering; (13) Meetings of Non-Service Agencies and Organizations on the Refuge; and (14) Group All-Terrain Vehicle Ride on Northwest Fork Road All-Terrain Vehicle Trail.

Alternatives: We developed four alternatives for management of the refuge and chose Alternative 2 as the proposed action. We believe this alternative will be the most effective one to contribute to the purposes for which the refuge was established and to the mission of the National Wildlife Refuge System.

Alternative 1, also called the “No Action” alternative, is the baseline or status quo of refuge programs and is usually a continuation of current planning objectives and management strategies. The refuge currently manages its impoundments very intensively by controlling water levels and vegetation to create optimum habitat for migrating waterfowl. It also manages pine forests and marshes with prescribed fire. Waterfowl are surveyed on a routine basis. The refuge has a visitor center, which includes an auditorium and indoor and outdoor classrooms, but depends on volunteers and cooperating agency personnel to staff and maintain the center. With regard to public use, each of the six priority public uses (e.g., hunting, fishing, wildlife observation, wildlife photography, and environmental education and interpretation) is encouraged. The staff conducts a limited number of environmental education and interpretation programs.

When the planning process started, there were 7.5 full-time employees stationed at Pocosin Lakes Refuge dedicated to refuge management (two of those positions have been lost recently) and 7.5 full-time employees dedicated to fire management.

Alternative 2, the proposed action, would allow for moderate program increases to address refuge priorities. The refuge would manage its impoundments very intensively by controlling water levels and vegetation to create optimum habitat for migrating waterfowl. It would also manage pine forests and marshes with prescribed fire and would manage the vegetative composition of habitats in selected areas. Waterfowl would be surveyed on a routine basis. The staff would develop inventory plans for all species and implement them in selected habitats. The staff would develop and implement a black bear management plan. The staff would maintain the visitor center with volunteers and cooperating agency personnel supplementing refuge personnel.

There would be 17.5 staff members dedicated to refuge management and 7.5 staff members dedicated to fire management. The volunteer program would be expanded to recruit volunteers to contribute 4,000 hours of service.

The six priority public uses would be allowed and the staff would conduct environmental education and interpretation programs to meet local needs.

Alternative 3 would allow for substantial program increases. The refuge would manage its impoundments very intensively by controlling water levels and vegetation to create optimum habitat for migrating waterfowl. It would also manage pine forests and marshes with prescribed fire and would manage the vegetative composition of habitats on the entire refuge. Waterfowl would be surveyed on a routine basis. The staff would develop inventory plans for all species and implement them over the entire refuge. The staff would develop and implement a black bear management plan. The staff would maintain the visitor center with volunteers and cooperating agency personnel supplementing refuge personnel.

There would be 25 staff members stationed at Pocosin Lakes Refuge dedicated to refuge management and 7 staff members dedicated to fire management. The refuge would conduct forest management and hydrology restoration by contract. The volunteer program would be expanded to recruit volunteers to contribute 10,000 hours of service.

The six priority public uses would be allowed and the staff would conduct environmental education and interpretation programs to meet local needs and expand outreach to the communities.

Alternative 4 would maintain the refuge in caretaker status. The refuge would manage its impoundments very intensively by controlling water levels and vegetation to create optimum habitat for migrating waterfowl. It would manage pine forests and marshes with prescribed fire. Waterfowl would be surveyed on a routine basis. Cooperating agency personnel and volunteers would staff and maintain the visitor center.

There would be 4.5 staff members stationed at Pocosin Lakes Refuge dedicated to refuge management and 7.5 staff members dedicated to fire management.

The six priority public uses would be allowed; however, the staff would not conduct any environmental education and interpretation programs.

Authority: This notice is published under the authority of the National Wildlife Refuge System Improvement Act of 1997, Public Law 105-57.

Dated: May 25, 2007.
Cynthia K. Dohner,
Acting Regional Director.

[FR Doc. E7-13563 Filed 7-11-07; 8:45 am]

BILLING CODE 4310-55-P